DEPARTMENT OF THE INTERIOR

Bureau of Indian Affairs

[256A2100DD/AAKE200000/A0A501010.000000]

Indian Gaming; Extension of Tribal-State Class III Gaming Compact in Nevada

AGENCY: Bureau of Indian Affairs, Interior.

ACTION: Notice.

SUMMARY: This notice announces the extension of the class III gaming compact between Pyramid Lake Paiute Tribe of the Pyramid Lake Reservation and State of Nevada.

DATES: The extension takes effect on April 17, 2025.

FOR FURTHER INFORMATION CONTACT: Mr. Philip Bristol, (A)Director, Office of Indian Gaming, Office of the Assistant Secretary—Indian Affairs, Washington, DC 20240, IndianGaming@bia.gov; (202) 219-4066.

SUPPLEMENTARY INFORMATION: An extension to an existing Tribal-State class III gaming compact does not require approval by the Secretary of the Interior if the extension does not modify any other terms of the compact. 25 CFR 293.5. The Pyramid Lake Paiute Tribe of the Pyramid Lake Reservation and State of Nevada have reached an agreement to extend the expiration date of their existing class III gaming compact to February 23, 2027. This publication provides notice of the new expiration date of the compacts.

Scott J. Davis,
Senior Advisor to the Secretary of the Interior, Exercising the delegated Authority of the Assistant Secretary—Indian Affairs.

[FR Doc. 2025-06606 Filed 4-16-25; 8:45 am]

BILLING CODE 4337-15-P